DEPARTMENT OF AGRICULTURE

Forest Service

Request for Applications: The Community Forest and Open Space Conservation Program

AGENCY: Forest Service.

ACTION: Notice; Correction.

SUMMARY: The Department of Agriculture (USDA), Forest Service, State and Private Forestry, Cooperative Forestry staff, published a document in the Federal Register of February 15, 2011, concerning requests for applications for the Community Forest and Open Space Conservation Program (Community Forest Program or CFP). The document contained incorrect funding information in section 2 (Award).

ADDRESSES: All local governments' and qualified nonprofit organizations' applications must be submitted to the State Forester of the State where the property is located. All Indian tribal applications must be submitted to the equivalent official of the Indian tribe. The Forest Service encourages applicants to contact and work with their State Forester or equivalent official of the Indian tribe when developing their proposal. The State Forester's contact information may be found at http://www.fs.fed.us/spf/coop/programs/loa/cfp.shtml.

All applicants must also send an email to communityforest@fs.fed.us to confirm an application has been submitted for funding consideration.

FOR FURTHER INFORMATION CONTACT: For questions regarding the grant application or administrative regulations, contact Kathryn Conant, Program Manager, 202-401-4072, kconant@fs.fed.us or Maya Solomon, Program Coordinator, 202-205-1376, mayasolomon@fs.fed.us.

Individuals who use telecommunication devices for the deaf (TDD) may call the Federal Relay Service (FRS) at 1-800-877-8339 twenty-four hours a day, every day of the year, including holidays.

Correction

In the Federal Register of February 15, 2012, in FR DOC #2012-3528 on page 8802 in the first column, correct the “2. Award Information” to read:

2. Award Information

Total CFP funding anticipated for awards made under this program is $3.15 million. Individual grant applications may not exceed $400,000. Awarding of grants under this program is contingent upon the availability of appropriated funds.

No legal liability on the part of the Government shall be incurred until appropriated funds are available and committed by the grant officer for this program to the applicant in writing. The initial grant period shall be for two years, and acquisition of lands should occur within that timeframe. The grant may be extended by the Forest Service when necessary to accommodate unforeseen circumstances in the land acquisition process. Awardees must submit written annual financial performance reports and semi-annual project performance reports shall be required and submitted to the appropriate grant officer.

Dated: February 21, 2012.
James Hubbard,
Deputy Chief, State & Private Forestry.

[FR Doc. 2012-5401 Filed 3-5-12; 8:45 am]

BILLING CODE 3410-11-P